DEPARTMENT OF THE INTERIOR

Bureau of Land Management

[MT-029-1310-DS 050E]

Notice of Availability of the Draft Supplement to the Statewide Oil and Gas Final Environmental Impact Statement and Amendment of the Powder River and Billings Resource Management Plans (RMPs), Montana

AGENCY: Bureau of Land Management, Interior.

ACTION: Notice of availability.

SUMMARY: By Order of the U.S. District Court for the District of Montana, pursuant to the Federal Land Policy and Management Act of 1976 and the National Environmental Policy Act of 1969 (42 U.S.C. 4321), as amended, the Bureau of Land Management (BLM) has prepared a Draft Supplement to the Statewide Oil and Gas Final Environmental Impact Statement and will amend the Powder River and Billings RMPs (Draft SEIS/Amendment).

DATES: The 90-day public comment period will begin the date the Environmental Protection Agency (EPA) publishes their Notice of Availability in the Federal Register. Tentative public meetings to gather comments on the draft will be held in Montana at the following locations: Billings, March 26, 2007; Hardin, March 27, 2007; Lame Deer, March 28, 2007; Broadus, March 29, 2007; and Miles City, March 30, 2007.

ADDRESSES: You may submit comments by any of the following methods (your name and mailing address must be submitted as part of your comments):

• Web Site: http://www.blm.gov/eis/mt/milescity_seis/.

• Fax: (406) 233-2921.

• Mail: CBNG Draft SEIS Comments, Bureau of Land Management, P.O. Box 219, Miles City, Montana 59301 or deliver to 111 Garryowen Road, Miles City, Montana.

FOR FURTHER INFORMATION CONTACT: Mary Bloom, Project Manager, BLM, (406) 233-2852.

SUPPLEMENTARY INFORMATION: The Powder River and Billings RMP areas comprise 1,506,011 acres of BLM managed surface and 5,009,784 acres of BLM managed mineral estate. There are 3,185,016 acres of BLM managed oil and gas. The Powder River RMP area includes Powder River and Treasure Counties; and portions of Big Horn, Carter, Custer, and Rosebud Counties. The Billings RMP area includes Carbon, Golden Valley, Musselshell, Stillwater, Sweet Grass, Wheatland, and Yellowstone Counties and the remaining portion of Big Horn County. This Draft SEIS is supplementing the 2003 Statewide Oil and Gas Final Environmental Impact Statement and Amendment of the Powder River and Billings RMPs (Statewide Document). The Notice of Availability was published in the Federal Register on January 17, 2003, and the Record of Decision was approved on April 30, 2003. Several lawsuits were filed against the BLM decision immediately following the publication of the Record of Decision. Two of the lawsuits resulted in an April 5, 2005, ruling by the U.S. District Court ordering the BLM to prepare a Supplemental EIS to consider a phased development alternative for coal bed natural gas (CBNG) production in the Billings and Powder River RMP areas of Montana. Topics addressed in the Draft SEIS/Amendment include those provided or recommended by the U.S. District Court: Phased CBNG development; the inclusion of the proposed Tongue River Railroad in the cumulative impact analysis; and a discussion on how private water well mitigation agreements help alleviate the impacts of methane migration and groundwater drawdown. The BLM published the Notice of Intent to plan for the SEIS/Amendment in the Federal Register on August 5, 2005. A 30-day scoping period was held to help the BLM define “phased development” and to identify relevant issues that should be considered and analyzed in the Draft SEIS/Amendment. The Draft SEIS/Amendment has been prepared by an interdisciplinary team of specialists with expertise in archeology, air quality, economics, fisheries, geology, hydrology, minerals, paleontology, recreation, sociology, soils, vegetation and wildlife. Three new alternatives have been analyzed in the Draft SEIS/Amendment to consider phased development. Under Alternative F, the BLM would limit the number of federal applications for permit to drill (APD) approved each year cumulatively and in each fourth order watershed. The BLM would also limit the percentage of disturbance within identified crucial sagebrush habitat. Finally, the BLM would place a limit on the volume of untreated water discharged to surface waters from federal CBNG wells within each fourth order watershed. Under Alternative G, development of CBNG on federal leases in the Billings and Powder River RMP areas would be done following the same management actions as described under Alternative F. However, while BLM would limit the number of federal APDs approved each year cumulatively, development would be limited to a low range of predicted wells (6,470) from the Statewide Document Reasonably Foreseeable Development scenario. Alternative H, the BLM's preferred alternative, has three key components. First, a phased development approach would be implemented where CBNG proposals would be reviewed against four filters or screens to determine if the proposal needs to be modified. Second, this alternative would include extensive requirements that an operator must meet when submitting a Plan of Development (POD). Third, mitigation measures and subsequent modifications to existing operations via adaptive management would be considered and applied to each POD, as appropriate.

Comments and information submitted on the Draft SEIS/Amendment, including names, email addresses, and street addresses of respondents, will be available for public review and disclosure at the above address. The BLM will not accept anonymous comments. Individuals may request confidentiality. Individuals who wish to withhold their names or addresses from public review or from disclosure under the Freedom of Information Act must state this prominently at the beginning of their written comments. Such requests will be honored to the extent allowed by law. All submissions from organizations and businesses, and from individuals identifying themselves as representatives or officials of organizations or businesses, will be available for public inspection in their entirety.

Donald S. Smurthwaite,
Acting State Director.

[FR Doc. E7-1694 Filed 2-1-07; 8:45 am]

BILLING CODE 4310-$$-P